DEPARTMENT OF COMMERCE

International Trade Administration

A-351-841

Notice of Final Determination of Sales at Less Than Fair Value: Polyethylene Terephthalate Film, Sheet, and Strip from Brazil

AGENCY: Import Administration, International Trade Administration, Department of Commerce.

EFFECTIVE DATE: September 24, 2008.

SUMMARY: The Department of Commerce (the Department) determines that imports of polyethylene terephthalate film, sheet and strip (PET film) from Brazil are being, or are likely to be, sold in the United States at less than fair value, as provided in section 735 of the Tariff Act of 1930, as amended (the Act). The final dumping margins are listed below in the section entitled “Final Determination of Investigation.”

FOR FURTHER INFORMATION CONTACT: Michael J. Heaney or Robert James, Import Administration, International Trade Administration, U.S. Department of Commerce, 14th Street and Constitution Avenue, NW, Washington, DC 20230; telephone: (202) 482-4475, or (202) 482-0649, respectively.

SUPPLEMENTARY INFORMATION:

Background

On May 5, 2008, the Department published the preliminary determination of sales at less than fair value (LTFV) in the antidumping investigation of polyethylene terephthalate film, sheet and strip from Brazil. See Notice of Preliminary Determination of Sales at Less Than Fair Value: Polyethylene Terephthalate Film, Sheet, and Strip from Brazil, 73 FR 24560 (May 5, 2008) (Preliminary Determination). On June 5, 2006 we extended the due date for issuing our final determination to September 17, 2008. See Postponement of Final Determination of Antidumping Duty Investigations: Polyethylene Terephthalate Film, Sheet and Strip from the People's Republic of China, Brazil, and Thailand. 73 FR 31964, June 5, 2006. We invited parties to comment on the Preliminary Determination. We received no comments.

Period of Investigation

The period of investigation is July 1, 2006, through June 30, 2007.

Scope of Investigation

The products covered in this investigation are all gauges of raw, pre-treated, or primed PET film, whether extruded or co-extruded. Excluded are metalized films and other finished films that have had at least one of their surfaces modified by the application of a performance-enhancing resinous or inorganic layer more than 0.00001 inches thick. Also, excluded is roller transport cleaning film which has at least one of its surfaces modified by application of 0.5 micrometers of SBR latex. Tracing and drafting film is also excluded. PET film is classifiable under subheading 3920.62.00.90 of the Harmonized Tariff Schedule of the United States (HTSUS). While HTSUS subheadings are provided for convenience and Customs purposes, our written description of the scope of this investigation is dispositive.

Adverse Facts Available

For the final determination, we continue to find that by failing to respond to sections A through E of our questionnaire and by withdrawing from the proceeding, Terphane Ltda, (Brazil) (Terphane) did not cooperate to the best of its ability in this investigation. See Preliminary Determination, 73 FR at 24562-24563. Thus, the Department continues to find the use of adverse facts available is warranted for this company in accordance with sections 776(a)(2) and (b) of the Act. As we explained in the Preliminary Determination, the rate of 44.36 percent we selected as the adverse facts-available rate is the highest margin alleged in the petition and we corroborated the adverse facts-available rate pursuant to section 776(c) of the Act.

All-Others Rate

As explained in the Preliminary Determination, we continue to assign as the all-others rate a simple average of the rates in the petition, that is, 28.72 percent. See Preliminary Determination, 73 FR at 24564.

Final Determination of Investigation

We determine that the following weighted-average dumping margins exist for the period April 1, 2006, through March 31, 2007:

Producer/Exporter | Weighted-Average Margin (Percentage)
Terphane | 44.36
All Others | 28.72

Continuation of Suspension of Liquidation

Pursuant to section 735(c)(1)(B) of the Act and 19 CFR 351.210(d)(1), we will instruct U.S. Customs and Border Protection (CBP) to continue to suspend liquidation of all entries of subject merchandise from Brazil entered, or withdrawn from warehouse, for consumption on or after May 5, 2008, the date of the publication of the Preliminary Determination. We will instruct CBP to require a cash deposit or the posting of a bond equal to the weighted-average margin, as indicated in the chart above, as follows: (1) the rate for Terphane will be the rate we have determined in this final determination; (2) if the exporter is not a firm identified in this investigation but the producer is, the rate will be the rate established for the producer of the subject merchandise; (3) the rate for all other producers or exporters will be 28.72 percent. These suspension-of-liquidation instructions will remain in effect until further notice.

International Trade Commission Notification

In accordance with section 735(d) of the Act, we have notified the International Trade Commission (ITC) of our final determination. As our final determination is affirmative, and in accordance with section 735(b)(2) of the Act, the ITC will determine, within 45 days, whether the domestic industry in the United States is materially injured, or threatened with material injury, by reason of imports or sales (or the likelihood of sales) for importation of the subject merchandise. If the ITC determines that material injury or threat of material injury does not exist, the proceeding will be terminated and all securities posted will be refunded or canceled. If the ITC determines that such injury does exist, the Department will issue an antidumping duty order directing CBP to assess antidumping duties on all imports of the subject merchandise entered, or withdrawn from warehouse, for consumption on or after the effective date of the suspension of liquidation.

Notification Regarding APO

This notice also serves as a reminder to parties subject to administrative protective order (APO) of their responsibility concerning the disposition of proprietary information disclosed under APO in accordance with 19 CFR 351.305. Timely notification of return/destruction of APO materials or conversion to judicial protective order is hereby requested. Failure to comply with the regulations and the terms of an APO is a sanctionable violation.

This determination is issued and published pursuant to sections 735(d) and 777(i)(1) of the Act.

Dated: September 17, 2008.
Stephen J. Claeys,
Acting Assistant Secretary for Import Administration.

[FR Doc. E8-22449 Filed 9-23-08; 8:45 am]

BILLING CODE 3510-DS-S